Presidential Determination No. 2002-03 of October 16, 2001

Waiver and Certification of Statutory Provisions Regarding the Palestine Liberation Organization

Memorandum for the Secretary of State

Pursuant to the authority and conditions contained in section 538(d) of the Foreign Operations, Export Financing, and Related Programs Appropriations Act, 2001, Public Law 106-429, as provided for in the Joint Resolution Making Continuing Appropriations for the Fiscal Year 2002, and for other Purposes (Public Law 107-44), I hereby determine and certify that it is important to the national security interests of the United States to waive the provisions of section 1003 of the Anti-Terrorism Act of 1987, Public Law 100-204.

This waiver shall be effective for a period of 6 months from the date hereof. You are hereby authorized and directed to transmit this determination to the Congress and to publish it in the Federal Register.

B

THE WHITE HOUSE,

Washington, October 16, 2001.

[FR Doc. 01-26790

Filed 10-22-01; 8:45 am]

Billing code 4710-10-M